DEPARTMENT OF STATE

[Public Notice 3571]

Bureau of Educational and Cultural Affairs Request for Grant Proposals: Freedom Support Act Contemporary Issues Fellowship Program; Notice: Request for Grant Proposals

SUMMARY: The Office of Academic Exchange Programs of the Bureau of Educational and Cultural Affairs (ECA) announces an open competition for administration of the Freedom Support Act Contemporary Issues Fellowship Program for the academic year 2001-2002. Public and private non-profit organizations meeting the provisions described in IRS regulation 26 CFR 1.501(c) may submit proposals to administer recruitment, selection, placement, monitoring, evaluation and follow-on activities.

Program Information: The Freedom Support Act Fellowships in Contemporary Issues Program selects highly qualified government officials, NGO leaders, and other professionals from the Newly Independent States who are engaged in the political, economic, social and educational transformation of their countries to receive fellowships at U.S. universities, think tanks, NGOs and U.S. Government offices. Fellows conduct research on topics that help advance the transition to democracy, free markets and the building of a civil society in their countries. Fellowships are for a duration of four months and include a one-month optional internship. Fellows are matched with U.S. host advisors who guide their research, writing and professional development.

ECA will award one grant for this program. Should an applicant organization wish to work with other organizations in the implementation of this program, a subgrant agreement must be arranged. Programs and projects must conform with Bureau requirements and guidelines outlined in the Solicitation Package. ECA programs are subject to the availability of funds. Programs must comply with J-1 Visa regulations. Please refer to Solicitation Package for further information.

Budget Guidelines: Grants awarded to eligible organizations with less than four years of experience in conducting international exchange programs will be limited to $60,000. ECA anticipates awarding one grant not to exceed $2,095,236. The Bureau encourages applicants to provide maximum levels of cost sharing and funding from private sources in support of its programs. There must be a summary budget as well as breakdowns reflecting both administrative and program budgets. Applicants may provide separate sub-budgets for each program component, phase, location, or activity to provide clarification. Please refer to the Solicitation Package for complete budget guidelines and formatting instructions.

Announcement Title and Number: All correspondence with the Bureau concerning this RFGP should reference the above title and number ECA/A/E/EUR-01-09.

FOR FURTHER INFORMATION CONTACT: The Office of Academic Exchange Programs, ECA/A/E/EUR, Room 246, U.S. Department of State, 301 4th Street, SW., Washington, DC 20547, Phone: 202-205-0525; Fax: 202-260-7985, ljilka@pd.state.gov to request a Solicitation Package. The Solicitation Package contains detailed award criteria, required application forms, specific budget instructions, and standard guidelines for proposal preparation. Please specify Bureau Program Manager Lucy Jilka on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's website:http://exchanges.state.gov/education/RFGPs. Please read all information before downloading.

Deadline for Proposals: All proposal copies must be received at the Bureau of Educational and Cultural Affairs by 5 p.m. Washington, D.C. time on April 6, 2001. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/E/EUR-01-09, Program Management, ECA/EX/PM, Room 534, 301 4th Street, S.W., Washington, D.C. 20547.

Applicants must also submit the “Executive Summary” and “Proposal Narrative” sections of the proposal on a 3.5″ diskette, formatted for DOS. These documents must be provided in ASCII text (DOS) format with a maximum line length of 65 characters. The Bureau will transmit these files electronically to the Public Affairs Sections the U.S. Embassies for its review, with the goal of reducing the time it takes to get Embassies' comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy”, the Bureau “shall take appropriate steps to provide opportunities for participation in such programs to human rights and democracy leaders of such countries.” Public Law 106-113 requires that the governments of the countries described above do not have inappropriate influence in the selection process. Proposals should reflect advancement of these goals in their program content, to the fullest extent deemed feasible.

Review Process

The Bureau will acknowledge receipt of all proposals and will review them for technical eligibility. Proposals will be deemed ineligible if they do not fully adhere to the guidelines stated herein and in the Solicitation Package. All eligible proposals will be reviewed by the program office, as well as the Public Affairs Sections overseas, where appropriate. Eligible proposals will be forwarded to panels of Department of State officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program plan: Proposals should include academic rigor, thorough conception of the project, demonstration of meeting participants' needs, contributions to understanding the partner country, specific details of recruitment, selection, placement, professional development, and monitoring processes, proposed alumni activities and alumni tracking, qualifications and expertise of program staff and participants, and relevance to ECA's mission and U.S. foreign policy goals and objectives.

2. Program planning and organizational capacity: A detailed work plan and timeline should demonstrate the organization's logistical and administrative capacity to implement the program. Proposals must demonstrate how the organization and its staff will meet the program's objectives and work plan. Proposed personnel and organizational resources should be adequate and appropriate to implement the program requirements and achieve program objectives.

3. Institution's record/ability: Proposals should demonstrate experience in developing, implementing, administering, and evaluating scholarly research exchanges with the NIS. This includes responsible fiscal management and full compliance with all reporting requirements for past ECA grants as determined by ECA's Office of Contracts.

4. Multiplier effect/impact: Proposed program must demonstrate an impact on the wider community of scholars, policymakers, opinion-leaders, and public, private, and third sector professionals through the sharing of information and the establishment of long-term institutional and individual linkages among U.S. and NIS scholars and practitioners.

5. Cost effectiveness and cost sharing: The overhead and administrative components of the proposals, including salaries and honoraria, should be kept as low as possible. All other items should be necessary and appropriate. Proposals should maximize cost sharing through other private sector support as well as institutional direct funding contributions.

6. Support of diversity and pluralism: Proposals should demonstrate substantive support of the ECA's policy on diversity through the recruitment, selection, and placement of participants, as well as through orientation presentations, to the extent feasible for the applicant organization.

7. Alumni tracking: Proposals should provide a plan for effective tracking of participants after the completion of the program.

8. Program evaluation: Proposals should include a plan to evaluate the program's success. A results-oriented draft survey questionnaire or other technique plus a description of a methodology to be used to link outcomes to original project objectives is required as well as a comprehensive plan to track participants before, during, and after their Fellowships.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Freedom Support Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: February 7, 2001.
Helena Kane Finn,
Acting Assistant Secretary for Educational and Cultural Affairs, U.S. Department of State.

[FR Doc. 01-3755 Filed 2-14-01; 8:45 am]

BILLING CODE 4710-05-U